FEDERAL COMMUNICATIONS COMMISSION

[Report No. 2742]

Petitions for Reconsideration of Action in Rulemaking Proceeding

November 21, 2005.

Petitions for Reconsideration have been filed in the Commission's Rulemaking proceeding listed in this Public Notice and published pursuant to 47 CFR Section 1.429(e). The full text of these documents is available for viewing and copying in Room CY-B402, 445 12th Street, SW., Washington, DC or may be purchased from the Commission's copy contractor, Best Copy and Printing, Inc. (BCPI) (1-800-378-3160). Oppositions to these petitions must be filed by December 15, 2005. See Section 1.4(b)(1) of the Commission's rules (47 CFR 1.4(b)(1)). Replies to an opposition must be filed within 10 days after the time for filing oppositions have expired.

Subject: In the Matter of Amendment of Section 73.202(b) Table of Allotments, FM Broadcast Stations, Glenville, Weaverville, and Clyde, North Carolina; Tazewell, Tennessee (MB Docket 02-352).

In the Matter of Amendment of Section 73.202(b) Table of Allotments, FM Broadcast Stations, Elberton and Union Point, Georgia (MB Docket 05-191).

Number of Petitions Filed: 1.

Subject: In the Matter of FM Table of Allotments, Oolitic, Indiana, 94.1 MHz, Channel 231A (MB Docket 03-98).

Number of Petitions Filed: 1.

William F. Caton,
Deputy Secretary.

[FR Doc. 05-23450 Filed 11-29-05; 8:45 am]

BILLING CODE 6712-01-P